DEPARTMENT OF LABOR

Employment and Training Administration

[TA-W-60,405]

Employment Solutions Workers Employed at Water Pik, Inc. Loveland, CO; Notice of Termination of Investigation

Pursuant to Section 221 of the Trade Act of 1974, as amended, an investigation was initiated on November 13, 2006 in response to a worker petition filed the Colorado Department of Labor and Employment on behalf of workers of Employment Solutions employed at Water Pik, Inc, Loveland, Colorado.

The workers of Employment Solutions employed at Water Pik, Inc, Loveland, Colorado are covered by a certification that was amended to include them and issued officially on November 30, 2006 (TA-W-58,831).

Therefore, this investigation is terminated.

Signed at Washington, DC this 13th day of December, 2006.
Linda G. Poole,
Certifying Officer, Division of Trade Adjustment, Assistance.

[FR Doc. E6-21795 Filed 12-20-06; 8:45 am]

BILLING CODE 4510-30-P